DEPARTMENT OF THE TREASURY

Internal Revenue Service

Open Meeting of the Taxpayer Advocacy Panel's Notices and Correspondence Project Committee; Change

AGENCY: Internal Revenue Service (IRS), Treasury.

ACTION: Notice of meeting; change.

SUMMARY: In the Federal Register notice that was originally published on January 18, 2018, (83 FR 2725) the meeting date has changed. The date of the meeting is: Monday, March 19, 2018 and Friday March 20, 2018.

DATES: The meeting will be held Monday, March 19, 2018 and Tuesday, March 20, 2018.

FOR FURTHER INFORMATION CONTACT: Otis Simpson at 1-888-912-1227 or 202-317-3332.

SUPPLEMENTARY INFORMATION: Notice is hereby given pursuant to Section 10(a)(2) of the Federal Advisory Committee Act, 5 U.S.C. App. (1988) that a meeting of the Taxpayer Advocacy Panel Notices and Correspondence Project Committee will be held Monday, March 19, 2018, from 1:00 p.m. to 5:00 p.m. Eastern Time and Tuesday, March 20, 2018, from 8:00 a.m. until 5:00 p.m. Eastern Time at the IRS Office, Jacksonville, Florida. The public is invited to make oral comments or submit written statements for consideration. Due to limited time and structure of meeting, notification of intent to participate must be made with Otis Simpson. For more information please contact Otis Simpson at 1-888-912-1227 or 202-317-3332, or write TAP Office, 1111 Constitution Ave. NW, Room 1509, Washington, DC 20224 or contact us at the website: http://www.improveirs.org. The agenda will include various IRS issues.

Dated: February 14, 2018.
Antoinette Ross,
Acting Director, Taxpayer Advocacy Panel.

[FR Doc. 2018-03482 Filed 2-20-18; 8:45 am]

BILLING CODE 4830-01-P